DEPARTMENT OF AGRICULTURE

Forest Service

Beaver Creek Landscape Management Project, Ashland Ranger District, Custer National Forest; Powder River County, MT

AGENCY: Forest Service, USDA.

ACTION: Notice of change of responsible official.

SUMMARY: On April 2, 2010 the Forest Service announced its notice of intent (NOT) to prepare an Environmental Impact Statement for the Beaver Creek Landscape Management Project in the Federal Register (75 FR 16728). The notice of availability (NOA) of the Draft Environmental Impact Statement for the Beaver Creek Landscape Management Project was published in the Federal Register on October 15, 2010 (75 FR 63470, EIS No. 20100405, Draft EIS, USFS, MT).

Responsible Official

In the NOI the Forest Supervisor, Mary Erickson, was identified as the Responsible Official. Pursuant to Forest Service Manual (FSM) 2404.13 the District Ranger has the authority to be the Responsible Official for this project. Therefore, this is notice that Ashland District Ranger, Walt Allen, is the Responsible Official for the Beaver Creek Landscape Management Project.

DATES: The Final Environmental Impact Statement is planned to be released in April 2011.

ADDRESSES: No comments are being sought at this time. However, Walt Allen can be contacted at the Ashland Ranger District, P.O. Box 168, Ashland, MT 59003 or by phone at 406-784-2344.

FOR FURTHER INFORMATION CONTACT: Amy Waring, Project Coordinator, at (406) 657-6205 extension 210.

Dated: March 4, 2011.
Chris Worth,
Deputy Forest Supervisor.

[FR Doc. 2011-5476 Filed 3-10-11; 8:45 am]

BILLING CODE 3410-11-M